DEPARTMENT OF EDUCATION

[CFDA No.: 84.351-B]

The Cultural Partnerships for At-Risk Children and Youth Program

AGENCY: Department of Education.

ACTION: Notice inviting applications for new awards for fiscal year (FY) 2001.

Purpose of Program: The Cultural Partnerships for At-Risk Children and Youth Program, funded under Subpart 2 of Part D of Title X of the Elementary and Secondary Education Act (ESEA), makes demonstration grants to eligible entities for the development of school-community partnership programs designed to improve the educational performance and future educational potential of at-risk children by providing comprehensive, coordinated educational and arts programs and services.

Eligible Applicants: A local educational agency (LEA), acting on behalf of an individual school or schools in which 75 percent or more of the children enrolled in such school(s) are from low-income families based on data used in determining a school's eligibility to operate a schoolwide program pursuant to Title I Section 1114 of the ESEA, in partnership with at least one: institution of higher education, museum, local arts agency, or cultural entity that is accessible to individuals within the school district of such school(s) and that has a history of providing quality services to the community. Such entities may include: (i) Nonprofit institutions of higher education, museums, libraries, performing, presenting and exhibiting arts organizations, literary arts organizations, State and local arts organizations, cultural institutions, and zoological and botanical organizations; or (ii) private for-profit entities with a history of training children and youth in the arts. To be eligible, such partnerships shall serve: (1) Students enrolled in schools participating or eligible to participate in a schoolwide program under ESEA Title I Section 1114 and, to the extent practicable, the families of such students; (2) out-of-school children and youth at risk of disadvantages resulting from teenage parenting, substance abuse, recent migration, disability, limited English proficiency, illiteracy, being the child of a teenage parent, living in a single parent household, or dropping out of school; or (3) any combination of in-school and out-of-school at-risk children and youth. Any school or schools to be served through grants received under this program must submit evidence for inclusion in the grant application to the Secretary demonstrating that the school or schools meet the poverty criteria described above. Applicants may submit records kept for the purpose of ESEA Title I that provide proof of eligibility for each school to be served or to participate in the partnership.

Note: The LEA must serve as the fiscal agent for the program.

Applications Available: June 12, 2001.

Applications Must be Received By: July 27, 2001.

Deadline for Intergovernmental Review: August 28, 2001.

Available Funds: Approximately $2,000,000.

Estimated Number of Awards: 7-10.

Estimated Size of Awards: $100,000-$250,000.

Average Size of Awards: $200,000.

Matching Requirement: Recipients of grants under this program must share in the cost of the activities assisted under the grant. Grant recipients must make available non-Federal contributions, as authorized under Section 10414 of the program statute, in cash or in-kind in the following percentage: 20 percent of the cost of carrying out project activities for the project period. Applicant in-kind resources must be described as required in Sections B and C of the ED Form 524 Non-Construction Programs found within the application package.

Project Period: 12 months.

Note: The Department of Education is not bound by any estimates in this notice. The Administration is not requesting funding for this program in FY 2002.

Applicable Regulations: The Education Department General Administrative Regulations (EDGAR) in 34 CFR Parts 74, 75, 77, 79, 81, 82, 85, 86, 97, 98, and 99.

E-mail Notification of Intent to Apply for Funding: The Department will be able to develop a more efficient process for reviewing grant applications if it has a better understanding of the number of entities that intend to apply for funding under this competition. Therefore, the Secretary strongly encourages each potential applicant to notify the Department by e-mail that it intends to submit an application for funding. The Secretary requests that this e-mail notification be sent no later than July 12, 2001. The e-mail notification should be sent to Ms. Madeline Baggett at madeline.baggett@ed.gov. Applicants that fail to provide this e-mail notification may still apply for funding.

SUPPLEMENTARY INFORMATION:

Background

Arts education programs are beneficial to all students. Participation in the arts enhances a student's knowledge of self and the full range of human experience and potential. Involvement in music, literature, dance, theater, and the visual arts has the potential to transform the lives of children and youth, who often exhibit a greater sense of accomplishment and self-confidence through participation in arts education activities.

Recent studies, such as those conducted by the National Endowment for the Arts, continue to reveal the positive correlation between participation in arts education and the academic, social, and experiential growth of children and youth. Improvements in academic achievement, standardized test scores, and school dropout rates are reported. Arts and humanities programs foster the development of creative thinking, higher-order skills, problem-solving, and a motivation to learn for all students, especially those considered to be at-risk.

Studies have shown social and behavioral benefits for students engaged in arts education as well. Participation in arts activities is linked to these indicators: decreased anti-social behavior, decreased drug and alcohol use, and increased motivation for learning and participation in school activities.

While it is important for all children and youth to benefit from arts education, at-risk children and youth are especially in need of quality arts and cultural programs both during and after school. Unfortunately, at-risk students are generally less likely to have access to and participate in arts education programs, which are often inadequately funded in high-poverty rural and urban areas. Beleaguered school systems must frequently curtail or eliminate music and other arts programs due to budget constraints. Consequently, at-risk children and youth have even less opportunity to benefit from the arts.

Partnership programs that document ways in which to effectively coordinate local, State, and Federal resources into comprehensive, integrated arts education service delivery systems are needed. Such partnerships help ensure that all children have greater opportunities to benefit from and enjoy arts education programs and experiences. At-risk students will enjoy greater access to, and participation in, high-quality arts education activities and programs through funded projects, and successful approaches may be replicated in other communities for similar purposes and target populations.

Partnership Purposes

Through combined resources, facilities, services, materials, expertise, and funding, the arts activities and programs offered through a school-community partnership can reach those youth most in need of such opportunities and experiences. Cultural partnership programs developed, enhanced, or expanded to meet the outcomes described within this program will maximize the outreach and impact of arts education programs and enrichment activities for at-risk middle and high school students, both in and out of school.

The Cultural Partnerships for At-Risk Children and Youth Program will support the development of school-community partnership programs that coordinate and integrate local, State, and Federal resources for arts education and enrichment into a coordinated and comprehensive service delivery system for at-risk children and youth. The cultural partnership projects will evaluate their effectiveness in achieving the following program outcomes for both in- and out-of-school at-risk children and youth:

• Increased access to and participation in high-quality arts education programs and enrichment activities linked to educational improvement.

• Improved student academic performance through participation in comprehensive and coordinated high-quality arts education programs.

• Increased range in the types of arts education programs (i.e., a variety of music programs in addition to drama and dance, for example) and activities available.

At the end of the project period, the Department will disseminate information and materials on successful approaches for developing, enhancing, or expanding cultural partnerships designed to improve the educational performance or future potential of at-risk children and youth through comprehensive and coordinated educational services. This will include any evidence of improved educational achievement or potential educational achievement of at-risk students along with information regarding the arts education programs and methodologies linked to such improvements. The Department requires that, upon completion of the project, any materials or products developed be provided to the Department for further dissemination. Dissemination efforts will be carried out in full compliance with Departmental copyright requirements.

Waiver of Proposed Rulemaking: In accordance with the Administrative Procedure Act (5 U.S.C. 553), it is the practice of the Secretary to offer interested parties the opportunity to comment on proposed rules. Section 437(d)(1) of the General Education Provisions Act (GEPA), however, allows the Secretary to exempt rules governing the first competition under a new or substantially revised program authority (20 U.S.C. 1232(d)(1)). Funding was provided for this new initiative in the Fiscal Year 2001 Department of Education Appropriations Act, enacted in December 2000. Because this competition is the first competition under the program, it therefore qualifies as a new competitive grants program. The Secretary, in accordance with section 437(d)(1) of GEPA, has decided to forego public comment in order to ensure timely grant awards. These regulations will apply for the FY 2001 grant competition only.

Absolute Priority: Under 34 CFR 75.105(c)(3), the Secretary gives an absolute priority to partnership programs that focus school and cultural resources in the community on coordinated arts education services to address the needs of at-risk middle and high school-aged children and youth both in- and out-of-school. In addition, the project must fully address all of the desired outcomes for at-risk children and youth as described under the Partnership Purpose section.

Under 34 CFR 75.105(c)(3), the Secretary will fund under this competition only applicants that meet the absolute priority.

Empowerment Zones and Enterprise Communities: Under 34 CFR 299.3 and 34 CFR 75.105(c)(2)(i), the Secretary gives a 5-point competitive preference to applications whose partnerships are located within an Empowerment Zone, including Supplemental Empowerment Zones, or an Enterprise Community as designated by the United States Department of Housing and Urban Development or the United States Department of Agriculture.

Note: A list of areas that have been designated as Empowerment Zones and Enterprise Communities may be found at this website: http://www.ezec/mainmap.html.

Coordination Requirement: Under subpart 2 of Part D of Title X ESEA, section 10412(b)(3), grants under this competition may only be awarded to eligible entities (i.e., partnerships) that agree to coordinate activities carried out under the grant with other Federal, State and local grants administered by the individual partners. The applicant must demonstrate how the services supported through the Cultural Partnerships for At-Risk Children and Youth Program and other similar services supported through grants administered by the individual partners will be coordinated into an integrated service delivery system. The integrated services must be coordinated at a school, cultural, or other community-based site accessible to and utilized by at-risk youth. An applicant must provide evidence that the partnership members have met this requirement in order to receive funding under this program.

General Requirements: The following requirements must be met for any application submitted under this program: the program narrative is limited to no more than 45 double-spaced pages using the following standards: (1) A “page” is 8.5″ × 11″ (on one side only) with one inch margins (top, bottom, and sides); and (2) Double-space (no more than three lines per vertical inch) all text in the application narrative, including titles, headings, footnotes, quotations, and captions, as well as all text in charts, tables, figures, and graphs. The page limit applies to the narrative section only. However, all of the application narrative must be included in the narrative section. If the narrative section of an application exceeds the page limitation, the application will not be reviewed. (b) The projects funded under this priority must budget for a two-day Project Directors' meeting in Washington, D.C. (c) The project application must address the following factors as required by the statute in ESEA Section 10413(c)(2): (1) the cultural entity or entities that will participate in the partnership; (2) the target population to be served; (3) the services to be provided; (4) a plan for evaluating the success of the program; (5) for each local educational agency or school participating in the partnership, how the activities assisted by the grant will be perpetuated beyond the duration of the grant; (6) the manner in which the eligible entity will improve the educational achievement or future potential of at-risk youth through more effective coordination of cultural services in the community; (7) the overall and operational goals of the program; (8) the nature and location of all planned sites where services will be delivered and a description of services to be provided at each site; and (9) training activities provided to individuals who are not trained to work with children and youth, and how teachers will be involved. Most of these application requirements should be addressed in the application narrative, which applicants are encouraged to organize around the selection criteria for this competition. However, items 1, 2, 8, and 9, which are not directly covered within the selection criteria, should be addressed separately and included as appendices to the program narrative.

Selection Criteria: The Secretary will use the following selection criteria to evaluate applications under this competition. The maximum score for all of the selection criteria is 100 points. The maximum score for each criterion is indicated in parenthesis with the criterion. The criteria are as follows:

(a) Significance (15 Points). (1) The Secretary considers the significance of the proposed project.

(2) In determining the significance of the proposed project, the Secretary considers the following factors:

(i) The extent to which the proposed project involves the development or demonstration of promising new strategies that build on, or are alternatives to, existing strategies.

(ii) The potential contribution of the proposed project to increased knowledge or understanding of educational problems, issues, or effective strategies for implementing cultural partnership programs for at-risk children and youth.

(b) Improvement in the Educational Achievement or Future Potential of At-Risk Youth (15 points).

Under 34 CFR 75.209(a)(1)(ii), the Secretary reviews each application to determine the manner in which the partnership will improve the educational achievement or future potential of at-risk youth through comprehensive and coordinated services designed to: (1) enhance student academic performance in core academic subjects and on standardized tests; and (2) foster the academic potential of at-risk students.

(c) Quality of the Project Design (20 points). (1) The Secretary considers the quality of the project design of the proposed project.

(2) In determining the quality of the project design, the Secretary considers the following factors:

(i) The extent to which the proposed project represents an exceptional approach for meeting the priority or priorities established for the competition.

(ii) The extent to which the goals, objectives, and outcomes to be achieved by the proposed project are clearly specified and measurable and appropriate to the needs of the intended recipients of the project services.

(iii) The extent to which the design for implementing and evaluating the proposed project will result in information to guide possible replication of project activities or strategies, including information about the effectiveness of the approach or strategies employed by the project.

(d) Quality of Project Personnel (10 points). (1) The Secretary considers the quality of the personnel who will carry out the proposed project.

(2) In determining the quality of project personnel, the Secretary considers the extent to which the applicant encourages applications for employment from persons who are members of groups that have traditionally been under-represented based on race, color, national origin, gender, age, or disability.

(3) In addition, the Secretary considers the following factors:

(i) The qualifications, including relevant training and experience, of the project director.

(ii) The qualifications, including relevant training and experience, of key project personnel.

(iii) The qualification, including relevant training and experience, of project consultants or subcontractors.

(e) Adequacy of Resources (10 points). (1) The Secretary considers the adequacy of resources for the proposed project.

(2) In determining the adequacy of resources for the proposed project, the Secretary considers the following factors:

(i) The adequacy of support, including facilities, equipment, supplies, and other resources, from the lead applicant organization.

(ii) The extent to which the budget is adequate to support the proposed project.

(iii) The potential for continued support of the project after Federal funding ends, including, as appropriate, the demonstrated commitment of appropriate entities to such support.

(f) Quality of the Management Plan (15 points). (1) The Secretary considers the quality of the management plan for the proposed project.

(2) In determining the quality of the management plan for the proposed project, the Secretary considers the following factors:

(i) The adequacy of the management plan to achieve the objectives of the proposed project on time and within budget, including clearly defined responsibilities, time lines, and milestones for accomplishing project tasks.

(ii) The adequacy of procedures for ensuring continuous feedback and continuous improvement in the operation of the proposed project.

(iii) The extent to which the time commitments of the project director and other key project personnel are appropriate and adequate to meet the objectives of the proposed project.

(iv) How the applicant will ensure that a diversity of perspectives are brought to bear in the operation of the proposed project.

(g) Quality of the Project Evaluation (15 points). (1) The Secretary considers the quality of the project evaluation.

(2) In determining the quality of the project evaluation, the Secretary considers one or more of the following factors:

(i) The extent to which the methods of evaluation include objective performance measures that are clearly related to the intended outcomes of the project and will produce quantitative and qualitative data to the extent possible.

(ii) The extent to which the evaluation will provide guidance about effective strategies suitable for replication or testing in other settings.

For Applications or Information Contact: Madeline E. Baggett, U.S. Department of Education, 400 Maryland Avenue, S.W., Washington, DC 20202-6140. Telephone (202) 260-2502. Individuals who use a telecommunications device for the deaf (TDD) may call the Federal Information Relay Service (FIRS) at 1-800-877-8339.

Individuals with disabilities may obtain this document in an alternative format (e.g., Braille, large print, audiotape, or computer diskette) on request to the contact person listed in the preceding paragraph.

Individuals with disabilities may obtain a copy of the application package in an alternative format also by contacting that person. However, the Department is not able to reproduce in an alternative format the standards forms included in the application package.

Electronic Access to this Document:

You may view this document, as well as all other Department of Education documents published in the Federal Register, in text or Adobe Portable Document Format (PDF) on the Internet at the following site: www.ed.gov/legislation/FedRegister.

To use PDF you must have Adobe Acrobat Reader, which is available free at the previous site. If you have questions about using the PDF, call the U.S. Government Printing Office (GPO) toll free at 1-888-293-6498, or in the Washington, DC area at 202-512-1530.

Note: The official version of this document is the document published in the Federal Register. Free Internet access to the official edition of the Federal Register and the Code of Federal Regulations is available on GPO Access at: http://www.access.gpo.gov/nara/index.html.

Program Authority: 20 U.S.C. 7909.

Dated: June 7, 2001.
Thomas M. Corwin,
Acting Deputy Assistant Secretary for Elementary and Secondary Education.

[FR Doc. 01-14765 Filed 6-11-01; 8:45 am]

BILLING CODE 4000-01-U